DEPARTMENT OF HEALTH AND HUMAN SERVICES

Administration for Children and Families

Submission for OMB Review; ACF's Generic Clearance for Reviewer Recruitment Forms (OMB #0970-0477)

AGENCY: Office of Planning, Research, and Evaluation, Administration for Children and Families, HHS.

ACTION: Request for public comment.

SUMMARY: The Administration for Children and Families (ACF) proposes to revise the existing overarching generic clearance for Grant Reviewer Recruitment (GRR) forms to expand the focus from recruiting just grant reviewers to recruiting expert reviewers in general.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: Currently, the overarching generic 0970-0477 covers recruitment forms for grant reviewers, but it would be beneficial to ACF to collect information from other types of potential reviewers, such as those who review conference proposals or report drafts. This revised Generic Clearance for Reviewer Recruitment Forms would allow ACF to collect information about expertise from potential reviewers of a variety of activities.

ACF developed the original generic for GRR because each program office within ACF has a slightly different need for information about grant reviewer applicants. Similarly, ACF may recruit reviewers for a variety of different activities with slightly different needs for information about the reviewers. This revised overarching generic clearance will allow ACF to request slightly different information from potential reviewers, yet the individual forms will serve an identical function. The purpose is to select qualified reviewers for ACF review processes based on professional qualifications using data entered and documents provided by candidates. Example documents include writing samples and curriculum vitae and/or resume. ACF will use the information collected to recruit well-qualified reviewers with relevant background experience and knowledge.

The abbreviated clearance process of the generic clearance will allow the program offices to gather a suitable pool of candidates within the varied time periods available for reviewer recruitment.

These forms will be voluntary, low-burden and uncontroversial.

Respondents: Individuals who may apply to review materials for ACF.

Annual Burden Estimates
Instrument | Total number of respondents | Number of responses per respondent | Average burden hours per response | Annual burden hours
Reviewer Recruitment Forms | 3000 | 1 | .5 | 1500

Estimated Total Annual Burden Hours: 1500.

Mary B. Jones,
ACF/OPRE Certifying Officer.

[FR Doc. 2020-09354 Filed 5-1-20; 8:45 am]

BILLING CODE 4184-79-P